DEPARTMENT OF ENERGY

Federal Energy Regulatory Commission

Combined Notice of Filings #1

Take notice that the Commission received the following electric rate filings:

Docket Numbers: ER11-3616-001.

Applicants: California Independent System Operator Corporation.

Description: California Independent System Operator Corporation submits tariff filing per 35.17(b): 2011-09-21 CAISO Deficiency Filing for RDRR Amendment to be effective 4/1/2012.

Filed Date: 09/21/2011.

Accession Number: 20110921-5105.

Comment Date: 5 p.m. Eastern Time on Wednesday, October 12, 2011.

Docket Numbers: ER11-3912-002.

Applicants: Arizona Public Service Company.

Description: Arizona Public Service Company submits tariff filing per 35: Compliance Filing, Service Agreement No. 311 to be effective 8/29/2011.

Filed Date: 09/21/2011.

Accession Number: 20110921-5075.

Comment Date: 5 p.m. Eastern Time on Wednesday, October 12, 2011.

Docket Numbers: ER11-4103-001.

Applicants: Arizona Public Service Company.

Description: Arizona Public Service Company submits tariff filing per 35: Compliance Filing, Rate Schedule No. 253 to be effective 9/9/2011.

Filed Date: 09/21/2011.

Accession Number: 20110921-5074.

Comment Date: 5 p.m. Eastern Time on Wednesday, October 12, 2011.

Docket Numbers: ER11-4567-001.

Applicants: Pypha Energy LLC.

Description: Pypha Energy LLC submits tariff filing per 35: Baseline MBR Tariff Filing to be effective 9/20/2011.

Filed Date: 09/21/2011.

Accession Number: 20110921-5099.

Comment Date: 5 p.m. Eastern Time on Wednesday, October 12, 2011.

Docket Numbers: ER11-4582-000.

Applicants: 511 Plaza Energy, LLC.

Description: 511 Plaza Energy, LLC submits tariff filing per 35.1: Baseline Filing of Tariff to be effective 9/21/2011.

Filed Date: 09/21/2011.

Accession Number: 20110921-5039.

Comment Date: 5 p.m. Eastern Time on Wednesday, October 12, 2011.

Docket Numbers: ER11-4583-000.

Applicants: PacifiCorp.

Description: PacifiCorp submits tariff filing per 35.13(a)(2)(iii: BPA AC Intertie Agreement 5th Revised to be effective 9/22/2011.

Filed Date: 09/21/2011.

Accession Number: 20110921-5066.

Comment Date: 5 p.m. Eastern Time on Wednesday, October 12, 2011.

Docket Numbers: ER11-4584-000.

Applicants: Burgess Capital LLC.

Description: Burgess Capital LLC submits tariff filing per 35.1: Baseline 714 compliance to be effective 9/21/2011.

Filed Date: 09/21/2011.

Accession Number: 20110921-5068.

Comment Date: 5 p.m. Eastern Time on Wednesday, October 12, 2011.

Docket Numbers: ER11-4585-000.

Applicants: New York Independent System Operator, Inc.

Description: New York Independent System Operator, Inc. submits tariff filing per 35: NYISO filing of tariff revisions per NYISO PJM settlement agreement to be effective 9/16/2010.

Filed Date: 09/21/2011.

Accession Number: 20110921-5084.

Comment Date: 5 p.m. Eastern Time on Wednesday, October 12, 2011.

Docket Numbers: ER11-4586-000.

Applicants: Florida Power & Light Company.

Description: Florida Power & Light Company submits tariff filing per 35.13(a)(2)(iii: FPL and FMPA Third Revised Service Agreement No. 80 to be effective 10/1/2011.

Filed Date: 09/21/2011.

Accession Number: 20110921-5096.

Comment Date: 5 p.m. Eastern Time on Wednesday, October 12, 2011.

Docket Numbers: ER11-4587-000.

Applicants: Glenwood Energy Partners, Ltd.

Description: Glenwood Energy Partners, Ltd. submits tariff filing per 35.1: Glenwood FERC Rate Schedule No. 1 Baseline to be effective 9/21/2011.

Filed Date: 09/21/2011.

Accession Number: 20110921-5097.

Comment Date: 5 p.m. Eastern Time on Wednesday, October 12, 2011.

Docket Numbers: ER11-4588-000.

Applicants: LoneStar Energy Partners LLC.

Description: LoneStar Energy Partners LLC submits tariff filing per 35.1: Lonestar FERC Rate Schedule No. 1 Baseline to be effective 9/21/2011.

Filed Date: 09/21/2011.

Accession Number: 20110921-5098.

Comment Date: 5 p.m. Eastern Time on Wednesday, October 12, 2011.

Docket Numbers: ER11-4589-000.

Applicants: EcoGrove Wind, LLC.

Description: EcoGrove Wind, LLC submits tariff filing per 35.1: EcoGrove Wind LLC Baseline Tariff Filing to be effective 9/21/2011.

Filed Date: 09/21/2011.

Accession Number: 20110921-5100.

Comment Date: 5 p.m. Eastern Time on Wednesday, October 12, 2011.

Docket Numbers: ER11-4590-000.

Applicants: Westar Energy, Inc.

Description: Westar Energy, Inc. submits tariff filing per 35.13(a)(2)(iii: Revisions to Schedule 3A, Balancing Area Services Agreement to be effective 12/1/2011.

Filed Date: 09/21/2011.

Accession Number: 20110921-5101.

Comment Date: 5 p.m. Eastern Time on Wednesday, October 12, 2011.

Docket Numbers: ER11-4591-000.

Applicants: Red Hills Wind Project, LLC.

Description: Red Hills Wind Project, LLC submits tariff filing per 35.1: Red Hills Wind Project, LLC Baseline Tariff to be effective 9/21/2011.

Filed Date: 09/21/2011.

Accession Number: 20110921-5102.

Comment Date: 5 p.m. Eastern Time on Wednesday, October 12, 2011.

Docket Numbers: ER11-4592-000.

Applicants: Tatanka Wind Power, LLC.

Description: Tatanka Wind Power, LLC submits tariff filing per 35.1: Tatanka Wind Power, LLC Baseline Tariff Filing to be effective 9/21/2011.

Filed Date: 09/21/2011.

Accession Number: 20110921-5103.

Comment Date: 5 p.m. Eastern Time on Wednesday, October 12, 2011.

Docket Numbers: ER11-4593-000.

Applicants: Nevada Solar One, LLC.

Description: Nevada Solar One, LLC submits tariff filing per 35.1: Nevada Solar One, LLC Baseline Tariff Filing to be effective 9/21/2011.

Filed Date: 09/21/2011.

Accession Number: 20110921-5104.

Comment Date: 5 p.m. Eastern Time on Wednesday, October 12, 2011.

Docket Numbers: ER11-4594-000.

Applicants: Niagara Mohawk Power Corporation.

Description: Notice of Termination of Service Agreement No. 121 of Niagara Mohawk Power Corporation.

Filed Date: 09/21/2011.

Accession Number: 20110921-5133.

Comment Date: 5 p.m. Eastern Time on Wednesday, October 12, 2011.

Take notice that the Commission received the following electric securities filings:

Docket Numbers: ES11-48-000.

Applicants: Kentucky Utilities Company.

Description: Kentucky Utilities Company submits its Application under Section 204 of the Federal Power Act.

Filed Date: 09/21/2011.

Accession Number: 20110921-5131.

Comment Date: 5 p.m. Eastern Time on Wednesday, October 12, 2011.

Docket Numbers: ES11-49-000.

Applicants: Louisville Gas & Electric Company.

Description: Louisville Gas and Electric Company's Application under Section 204 of the Federal Power Act.

Filed Date: 09/21/2011.

Accession Number: 20110921-5132.

Comment Date: 5 p.m. Eastern Time on Wednesday, October 12, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2011.
Nathaniel J. Davis, Sr.,
Deputy Secretary.

[FR Doc. 2011-25334 Filed 9-30-11; 8:45 am]

BILLING CODE 6717-01-P